ENVIRONMENTAL PROTECTION AGENCY

40 CFR Part 52

[EPA-R10-OAR-2017-0597; FRL-9986-49-Region 10]

Air Plan Approval; AK: Fine Particulate Matter Infrastructure Requirements

AGENCY: Environmental Protection Agency (EPA).

ACTION: Final rule.

SUMMARY: Whenever the Environmental Protection Agency (EPA) promulgates a new or revised National Ambient Air Quality Standard (NAAQS), the Clean Air Act (CAA) requires each state to make a State Implementation Plan (SIP) submission establishing that the SIP provides for the implementation, maintenance, and enforcement of the new or revised NAAQS, commonly referred to as infrastructure requirements. The EPA is approving the Alaska SIP as meeting specific infrastructure requirements for the 1997, 2006, and 2012 fine particulate matter (PM2.5) NAAQS.

DATES: This final rule is effective December 27, 2018.

ADDRESSES: The EPA has established a docket for this action under Docket ID No. EPA-R10-OAR-2017-0597. All documents in the docket are listed on the https://www.regulations.gov website. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Kristin Hall at (206) 553-6357 or hall.kristin@epa.gov.

SUPPLEMENTARY INFORMATION: Throughout this document wherever “we,” “us,” or “our” is used, it is intended to refer to the EPA.

Table of Contents

I. Background Information

II. Response to Comments

A. Summary of Comments

B. EPA Responses

III. Final Action

IV. Statutory and Executive Order Reviews

I. Background Information

On March 10, 2016, Alaska submitted a SIP submission to address the infrastructure SIP requirements for the 2012 PM2.5 NAAQS, in addition to outstanding 1997 and 2006 PM2.5 NAAQS infrastructure elements not included in prior submissions. On January 23, 2018, the EPA proposed to approve the Alaska infrastructure SIP submission as meeting the following CAA section 110(a)(2) infrastructure elements for the 2012 PM2.5 NAAQS: (A), (B), (C), (D)(i)(II), (D)(ii), (E), (F), (H), (J), (K), (L), and (M). We also proposed to approve Alaska's March 2016 infrastructure SIP submission as meeting the requirements of CAA section 110(a)(2)(G) for the 1997, 2006, and 2012 PM2.5 NAAQS (83 FR 3101). The public comment period for our proposed action ended on February 22, 2018.

II. Response to Comments

A. Summary of Comments

We received 13 adverse comments, all of which appear to be from citizens living in North Pole, Alaska, part of the Fairbanks North Star Borough (FNSB) nonattainment area.¹ Commenters expressed concerns about the local burn curtailment program and how FNSB implemented the program in the nonattainment area this past winter. The program was developed by FNSB, submitted to the EPA by the Alaska Department of Environmental Conservation (ADEC), and approved by the EPA into the Alaska SIP on September 8, 2017, as part of the FNSB Moderate 2006 24-hour PM2.5 NAAQS nonattainment plan (82 FR 42457).

¹ See 40 CFR 81.302. A portion of the FNSB is designated nonattainment for the 2006 24-hour PM2.5 NAAQS. The entire state of Alaska is designated unclassifiable/attainment for the 2012 annual PM2.5 NAAQS.

Most of these commenters did not provide details about how their concerns warrant approval or disapproval of specific infrastructure SIP elements. The EPA does not consider comments on the advisability of FNSB control measures in the existing SIP to be within the scope of issues subject to public comment in this infrastructure SIP action. The provisions in question were previously approved into the SIP as part of the FNSB Moderate 2006 24-hour PM2.5 NAAQS nonattainment plan, and we are not in this action (which approves the Alaska SIP as meeting specific infrastructure requirements for the 1997, 2006, and 2012 PM2.5 NAAQS) revisiting our prior decision. Likewise, comments on potential future control measures that have not been submitted to the EPA for SIP approval are outside the scope of this action.

One commenter did include detailed information supporting their assertion that the EPA should not approve certain infrastructure SIP elements in this action, and we have responded to the commenter's assertions below.

B. EPA Responses

1. CAA Section 110(a)(2)(A)—Emission Limits

One commenter stated that CAA section 110(a)(2)(A) requires SIPs to include enforceable emission limits, but the “FNSB has set a standard for home wood burning devices that is much more strict than the EPA requires.” The commenter included a link to the ADEC web page comparing the EPA's 2015 New Source Performance Standards (NSPS) for Residential Wood Heaters to Alaska regulations addressing solid fuel-fired heating device emission standards, specifically, regulations set forth in Alaska Administrative Code (AAC) at 18 AAC 50.077 and 18 AAC 50.079.² The commenter alleged that the Alaska standards are more stringent than the EPA's NSPS and concluded that the Alaska standards are, therefore, an unenforceable emission limit under CAA section 110(a)(2)(A).

² http://burnwise.alaska.gov/standards.htm.

The EPA disagrees with this comment for a number of reasons. First, CAA section 110(a)(2)(A) requires SIPs to include enforceable emission limitations and other control measures, means, or techniques (including economic incentives such as fees, marketable permits, and auctions of emissions rights), as well as schedules and timetables for compliance, as may be necessary or appropriate to meet the applicable requirements of the CAA. In the context of an infrastructure SIP submission for a new or revised NAAQS, however, the EPA is not evaluating the substantive merit of existing control measures in the SIP, unlike the evaluation of such measures in a nonattainment plan SIP submission. For an infrastructure SIP submission, the EPA interprets section 110(a)(2)(A) to require states to make a submission that identifies the existing measures in their SIPs that are relevant to the NAAQS at issue, as the first step in their planning for implementation of a new or revised NAAQS.³ These infrastructure SIP submissions should identify enforceable control measures as part of the demonstration that the State has the available tools and authority to develop and implement plans to attain and maintain the NAAQS.

³ See August 14, 2015, final rule approving Indiana and Ohio infrastructure SIPs (80 FR 48733 at pages 48737-48738).

The EPA's longstanding position is that infrastructure SIPs are statewide planning SIPs to implement, maintain, and enforce a NAAQS in general, and are not detailed attainment and maintenance plans for an individual area of a state.⁴ Infrastructure SIPs are due within three years of adoption or revision of a particular NAAQS, according to CAA sections 110(a)(1) and (2). The separate nonattainment plan SIP submissions to address the emission limits and other control measures needed to attain a particular NAAQS in an area designated nonattainment are due on a separate schedule, pursuant to CAA section 172 and the various pollutant-specific subparts 2 through 5 of part D.⁵

⁴ See detailed discussion of the scope of infrastructure SIP actions in the July 20, 2016, proposed rule on the Alaska SIP with respect to infrastructure requirements (81 FR 47103, at page 47104).

⁵ See 2013 infrastructure guidance: Stephen D. Page, Director, Office of Air Quality Planning and Standards. “Guidance on Infrastructure State Implementation Plan (SIP) Elements under Clean Air Act Sections 110(a)(1) and 110(a)(2).” Memorandum to EPA Air Division Directors, Regions 1-10, September 13, 2013.

Second, the EPA disagrees because the comment is not germane to this action on the State's infrastructure SIP submission. The commenter's assertions focus on control measures already established by the State in 18 AAC 50.077 and 18 AAC 50.079 to attain the 2006 24-hour PM2.5 NAAQS in the FNSB nonattainment area. On September 8, 2017, the EPA approved 18 AAC 50.077 as an appropriate control measure for the area and we are not revisiting our prior decision.⁶ The EPA already addressed the substance and validity of the control measures, and the need for such measures to help reach attainment of the NAAQS in the FNSB area in that prior action. We note that the standards in 18 AAC 50.079 have not been submitted by Alaska to the EPA and are therefore outside the scope of this action.

⁶ See September 8, 2017, final rule (82 FR 42457) and February 2, 2017, proposed rule (82 FR 9035 at pages 9045-9046).

Third, the EPA does not agree that it is appropriate to compare the stringency of an NSPS with the stringency of other forms of control measures that may be necessary for a given source category. The NSPS for woodstoves focuses on emission reductions achievable through redesign of new woodstoves to reduce emissions. By contrast, potential SIP control measures can, and may be required to, achieve emission reductions by other means such as requirements to burn dry wood, opacity standards, curtailment programs, or other mechanism to reduce emissions from both new and existing sources, perhaps over and above what may result from the NSPS alone. The commenter incorrectly presumes that an NSPS is necessarily the proper point of comparison for the validity of SIP provisions to address emissions from woodstoves.

Fourth, the EPA disagrees with the premise that states cannot regulate a source category more stringently than may be required in a Federal regulation. In enacting section 110 of the CAA, Congress gave states the lead in developing plans to implement, maintain, and enforce the NAAQS. The EPA's role is to review and approve state choices if they meet the minimum criteria of the CAA. See 42 U.S.C. 7410(k) and 40 CFR 52.02(a). There is nothing in the CAA that prevents SIP provisions from being more stringent than Federal NSPS standards. To the contrary, CAA section 116 explicitly authorizes states to regulate sources more stringently than the EPA does through Federal regulations. More importantly, states have the obligation to regulate sources as necessary to meet nonattainment area plan stringency requirements, such as reasonably- and best available control measures, and the obligation to regulate sources as necessary to attain the NAAQS in a given nonattainment area. Thus, the fact that 18 AAC 50.077 may be more stringent than the NSPS for home heating devices does not make it unenforceable.

Finally, we note that Alaska's infrastructure SIP submission established that the State has a program for implementation, maintenance, and enforcement of the 2012 PM2.5 NAAQS that covers a range of relevant sources of emissions. As discussed in the proposed action, Alaska regulates emissions of PM2.5 and its precursors through the SIP-approved major and minor new source review (NSR) permitting programs, most recently updated on August 28, 2017 (82 FR 40712). In addition to permitting requirements, Alaska's SIP contains other rules that limit particulate matter emissions. These rules include incinerator emission standards, emission limits for specific industrial processes and fuel burning equipment, open burning restrictions, visible emission limits on marine vessel emissions, and requirements for installing and operating solid fuel-fired devices.

We continue to find that the Alaska infrastructure SIP submission meets the requirements of CAA section 110(a)(2)(A) for purposes of the 2012 PM2.5 NAAQS and we are finalizing our proposed approval. To the extent that additional control measures are necessary to meet other requirements, such as control measures necessary to reach attainment of the NAAQS in the FNSB nonattainment area in a nonattainment plan SIP submission, Alaska and the EPA will address that in subsequent actions.

2. CAA Sections 110(a)(2)(B) and (K)—Monitoring and Modeling

The commenter asserted that the regulatory monitor at Hurst Road in North Pole, Alaska “routinely records the highest levels of PM2.5 seen in the nation, while devices nearby record normal levels of PM2.5.” The commenter concluded that “the FNSB is using faulty air quality parameters” that are being used to dictate the strategy for the nonattainment area and that the State has failed to meet CAA sections 110(a)(2)(B) and (K).

The EPA disagrees that the relative levels of ambient PM2.5 at monitors in the FNSB affects the approvability of the infrastructure SIP submission. In the context of an infrastructure SIP submission, the EPA interprets CAA section 110(a)(2)(B) to require states to have SIP provisions to provide for the establishment and operation of ambient air quality monitors, collecting and analyzing ambient air quality data, and making these data available to the EPA upon request. In our proposed action, we stated that Alaska has a comprehensive air quality monitoring plan, originally approved by the EPA into the Alaska SIP on April 15, 1981 (46 FR 21994). We also determined that the plan includes statutory and regulatory authority to establish and operate an air quality monitoring network, including PM2.5 monitoring (January 23, 2018; 83 FR 3101, at page 3103). In practice, Alaska operates a comprehensive PM2.5 monitoring network, compiles and analyzes collected data, and submits the data to the EPA's Air Quality System on a quarterly basis.

With respect to monitor siting, Alaska regularly assesses the adequacy of the State monitoring network and submits that assessment to the EPA for review. The most recent Alaska network assessment is available at http://dec.alaska.gov/air/air-monitoring/network-assessments. The fact that a single monitor records ambient PM2.5 values higher than monitors in surrounding areas does not establish that the monitoring data is inaccurate. The EPA's network design criteria are found in Appendix D to 40 CFR part 58. The fine particulate matter design criteria for state and local air monitors, at paragraph 4.7 of the Appendix, directs states to appropriately monitor the area of maximum concentration. We continue to find that Alaska has met the infrastructure SIP monitoring requirement of CAA section 110(a)(2)(B) for the 2012 PM2.5 NAAQS and we are finalizing our proposed approval with respect to this requirement.

In the context of an infrastructure SIP submission, the EPA interprets CAA section 110(a)(2)(K) to require that SIPs provide for the performance of air quality modeling as may be prescribed by the EPA, and the submission of that modeling data by states to the EPA as required or upon request. In our proposed action, we stated that Alaska's SIP meets the infrastructure SIP requirements for modeling because, as stated in the submission, Alaska incorporates the EPA's Guideline on Air Quality Models into the SIP at 18 AAC 50.040 and requires its use based on 18 AAC 50.215 Ambient Air Quality Analysis Methods.

Beyond alleging that “the FNSB is using faulty air quality parameters,” the commenter did not specify why they felt the Alaska SIP failed to meet CAA section 110(a)(2)(K) for the 2012 PM2.5 NAAQS. We continue to find that the Alaska SIP provides the necessary authority to perform required air quality modeling and to submit that data to the EPA.⁷ Therefore, we are finalizing our proposed approval of the infrastructure SIP submission with respect to CAA section 110(a)(2)(K) for the 2012 PM2.5 NAAQS.

⁷ See 2013 infrastructure guidance at page 55: Stephen D. Page, Director, Office of Air Quality Planning and Standards. “Guidance on Infrastructure State Implementation Plan (SIP) Elements under Clean Air Act Sections 110(a)(1) and 110(a)(2).” Memorandum to EPA Air Division Directors, Regions 1-10, September 13, 2013.

3. CAA section 110(a)(2)(C)—Enforcement

The commenter alleged that the FNSB cannot enforce wood burning curtailment as a practical matter and pointed to public statements that the FNSB has found “very low compliance” but has issued “only one citation.” The commenter concluded that the program is unenforceable and that the State has failed to meet CAA section 110(a)(2)(C) with respect to enforcement.

In the context of an infrastructure SIP submission, the EPA interprets CAA section 110(a)(2)(C) to require, among other things, a program providing for enforcement of all SIP measures. As stated in the infrastructure SIP submission, Alaska statute provides ADEC authority to enforce air quality regulations, permits, and orders promulgated pursuant to AS 46.03 and AS 46.14. ADEC staffs and maintains an enforcement program to ensure compliance with SIP requirements. ADEC has emergency order authority when there is an imminent or present danger to health or welfare or potential for irreversible or irreparable damage to natural resources or the environment. Enforcement cases may be referred to the State Department of Law. Therefore, we proposed to approve the Alaska SIP as meeting the requirements of CAA section 110(a)(2)(C) related to enforcement for the 2012 PM2.5 NAAQS.

The commenter asserted that the FNSB burn curtailment program is unenforceable and that the EPA should therefore disapprove the infrastructure SIP submission with respect to CAA section 110(a)(2)(C). The EPA disagrees that the amount or type of enforcement of a SIP provision necessarily affects the approvability of an infrastructure SIP submission. In the context of evaluating an infrastructure SIP submission, the EPA is focused upon the facial sufficiency of the State's SIP and does not evaluate issues related to the State's implementation of the SIP. The EPA has other authority to take action, in the event the State is actually failing to implement its SIP, such as the issuance of a finding of failure to implement or a SIP call. In this instance, the comment also relates to the State's exercise of enforcement discretion, rather than to the facial sufficiency of the State's SIP with respect to enforcement authority.

As stated in our proposal, the SIP contains the required statutory authority to enforce air quality regulations, permits, and orders.⁸ We continue to find that the Alaska SIP meets the infrastructure requirements of CAA section 110(a)(2)(C) for the 2012 PM2.5 NAAQS and we are finalizing our proposed approval.

⁸ January 23, 2018; 83 FR 3101, pages 3103-3104.

4. CAA section 110(a)(2)(G)—Emergency Episodes

The commenter stated that “the emergency episode plan for FNSB is not sustainable” and specifically referred to a voter initiative to remove wood burning from FNSB regulatory oversight. The commenter also alleged that the FNSB is using the SIP emergency episode plan “as a surrogate for its own desires to limit wood burning.” The commenter therefore argued that the State has failed to meet 110(a)(2)(G) infrastructure requirements.

In the context of an infrastructure SIP submission, the EPA interprets CAA section 110(a)(2)(G) to require two things: (1) States must have general emergency authority to address activities causing imminent and substantial endangerment to public health, and (2) if the area has high ambient PM2.5 concentrations in the past, a contingency plan in their SIPs to achieve emission reductions in the event of an emergency episode.

In the March 10, 2016, infrastructure submission, with respect to general emergency authority, Alaska cited to Alaska Statute (AS) 46.03.820 Emergency powers, which provides ADEC with emergency order authority where there is an imminent or present danger to the health or welfare of the people of the state or would result in or be likely to result in irreversible or irreparable damage to the natural resources or environment. In addition, with respect to a contingency plan to achieve emission reductions in the event of an emergency episode, Alaska referenced State-wide emergency episode rules at 18 AAC 50.246 Air Quality Episodes and Advisories for PM2.5. These rules authorize ADEC to declare an air alert, air warning, or air advisory to notify the public and prescribe and publicize curtailment action, including imposition of restrictions on open burning under 18 AAC 50.065 and limits on visible emissions from solid fuel-fired heating devices under 18 AAC 50.075. The submission also noted that the FNSB developed a local emergency episode plan for PM2.5 applicable in the FNSB area, and the State adopted the plan into the Alaska SIP at 18 AAC 50.030.

On January 23, 2018, the EPA proposed to find that AS 46.03.820 Emergency powers provides emergency order authority comparable to CAA section 303.⁹ We also proposed to find that Alaska's State-wide emergency episode rules are consistent with the requirements of 40 CFR part 51 subpart H for PM2.5 (prevention of air pollution emergency episodes, sections 51.150 through 51.153).¹⁰ These State-wide, SIP-approved regulations and statute continue to meet the CAA section 110(a)(2)(G) emergency episode infrastructure requirements. Therefore, we are finalizing our proposed approval of the Alaska SIP as meeting CAA section 110(a)(2)(G) for the 1997, 2006, and 2012 PM2.5 NAAQS.

⁹ January 23, 2018; 83 FR 3101, page 3106.

¹⁰ 18 AAC 50.246 Air Quality Episodes and Advisories for PM2.5, in conjunction with 18 AAC 50.065 Open Burning and 18 AAC 50.075 Solid Fuel-Fired Device Visible Emission Standards, most recently approved by the EPA on September 8, 2017 (82 FR 40712).

III. Final Action

We are approving the Alaska SIP as meeting the following CAA section 110(a)(2) infrastructure elements for the 2012 PM2.5 NAAQS: (A), (B), (C), (D)(i)(II), (D)(ii), (E), (F), (H), (J), (K), (L), and (M). We are also approving the Alaska SIP as meeting CAA section 110(a)(2)(G) for the 1997, 2006, and 2012 PM2.5 NAAQS. This action is being taken under section 110 of the CAA.

IV. Statutory and Executive Order Reviews

Under the CAA, the Administrator is required to approve a SIP submission that complies with the provisions of the CAA and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide the EPA with the discretionary authority to address, as appropriate, disproportionate human health or environmental effects, using practicable and legally permissible methods, under Executive Order 12898 (59 FR 7629, February 16, 1994).

The SIP is not approved to apply on any Indian reservation land or in any other area where the EPA or an Indian tribe has demonstrated that a tribe has jurisdiction. In those areas of Indian country, the rule does not have tribal implications and it will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 28, 2019. Filing a petition for reconsideration by the Administrator of this final rule does not affect the finality of this action for the purposes of judicial review nor does it extend the time within which a petition for judicial review may be filed, and shall not postpone the effectiveness of such rule or action. This action may not be challenged later in proceedings to enforce its requirements. See section 307(b)(2).

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: November 2, 2018.
Chris Hladick,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart C—Alaska

2. In § 52.70, the table in paragraph (e) is amended by:

a. Revising entry III.II.D.; and

b. Adding entries “Infrastructure Requirements—2012 PM2.5 NAAQS” and “Infrastructure Requirements—1997, 2006, and 2012 PM2.5 NAAQS” after entry “Interstate Transport Requirements—2010 SO2 NAAQS”.

The revision and additions read as follows:

§ 52.70 Identification of plan.

* * * * *

(e) * * *

EPA-Approved Alaska Nonregulatory Provisions and Quasi-Regulatory Measures
Name of SIP provision | Applicable geographic or non- attainment area | State submittal date | EPA approval date | Explanations
* * * * * * *
State of Alaska Air Quality Control Plan: Volume III. Appendices
Section II State Air Quality Control Program
* * * * * * *
III.II.D. CAA Section 110 Infrastructure Certification Documentation and Supporting Documents | Statewide | 3/10/2016 | 11/27/2018, [Insert Federal Register citation]
* * * * * * *
Infrastructure and Interstate Transport
* * * * * * *
Infrastructure Requirements—2012 PM2.5 NAAQS | Statewide | 3/10/2016 | 11/27/2018, [Insert Federal Register citation] | Approves SIP for purposes of CAA sections 110(a)(2)(A), (B), (C), (D)(i)(II), (D)(ii), (E), (F), (H), (J), (K), (L), and (M) for the 2012 PM2.5 NAAQS.
Infrastructure Requirements—1997, 2006, and 2012 PM2.5 NAAQS | Statewide | 3/10/2016 | 11/27/2018, [Insert Federal Register citation] | Approves SIP for purposes of CAA sections 110(a)(2)(G) for the 1997, 2006, and 2012 PM2.5 NAAQS.
* * * * * * *

[FR Doc. 2018-25681 Filed 11-26-18; 8:45 am]

BILLING CODE 6560-50-P